DEPARTMENT OF COMMERCE

National Oceanic and Atmospheric Administration

15 CFR Part 902

50 CFR Part 660

[Docket No. 210423-0087]

RIN 0648-BJ50

Magnuson-Stevens Act Provisions; Fisheries Off West Coast States; Pacific Coast Groundfish Fishery; Salmon Bycatch Minimization

AGENCY: National Marine Fisheries Service (NMFS), National Oceanic and Atmospheric Administration (NOAA), Commerce.

ACTION: Final rule; date of effectiveness for collection-of-information requirements.

SUMMARY: NMFS announces approval by the Office of Management and Budget (OMB) of collection-of-information requirements, which were contained in regulations to allow a Pacific whiting sector cooperative or group of vessels to develop a Salmon Mitigation Plan (SMP), in a final rule published on February 23, 2021. The intent of this rule is to inform the public of the effectiveness of the collection-of-information requirements associated with the submission and reporting requirements included in the February 23, 2021 final rule.

DATES: This rule is effective April 29, 2021.

ADDRESSES: Written comments regarding the burden-hour estimates or other aspects of the collection-of-information requirements contained in this final rule may be submitted to Barry A. Thom, Regional Administrator, West Coast Region, NMFS, 7600 Sand Point Way NE, Seattle, WA 98115-0070. Attn: Brian Hooper, and to www.reginfo.gov/public/do/PRAMain.

FOR FURTHER INFORMATION CONTACT: Brian Hooper, phone: (206) 526-6117, or email: brian.hooper@noaa.gov.

SUPPLEMENTARY INFORMATION: NMFS manages the groundfish fisheries in the exclusive economic zone off Washington, Oregon, and California under the Pacific Coast Groundfish Fishery Management Plan. The Pacific Fishery Management Council prepared this fishery management plan under the authority of the Magnuson-Stevens Fishery Conservation and Management Act (Magnuson-Stevens Act), 16 U.S.C. 1801 et seq. Regulations governing U.S. fisheries and implementing the Magnuson-Stevens Act are located at 50 CFR parts 600 and 660.

Background

On February 23, 2001, NMFS published in the Federal Register a final rule (86 FR 10857) allowing a Pacific whiting sector cooperative or group of vessels to develop an SMP to promote reduction in Chinook salmon bycatch. The rule also established that vessels with a NMFS-approved SMP have access to the Chinook salmon bycatch reserve regardless of NMFS implementing other inseason measures to minimize salmon bycatch. The associated regulations are found at 50 CFR part 660. OMB approved the collection-of-information requirements contained in the final rule on March 10, 2021, under OMB Control Number 0648-0794 (Pacific Coast Groundfish Salmon Bycatch Minimization). Accordingly, this rule announces the OMB approval and effective date of the submission and reporting requirements for vessels seeking NMFS approval of an SMP and for vessels with an approved SMP found at 50 CFR 660.113(e).

OMB Revisions to PRA References in 15 CFR 902.1(b)

Section 3507(c)(B)(i) of the Paperwork Reduction Act (PRA) requires that agencies inventory and display a current control number, assigned by the Director of the OMB, for each agency's information collection. Section 902.1(b) identifies the location of NOAA regulations for which OMB approval numbers have been issued. Because this final rule adds collection-of-information requirements, 15 CFR 902.1(b) is revised to correctly reference the sections resulting from this final rule.

2021 Deadline To Submit an SMP for NMFS Approval

Pacific whiting cooperatives or groups of vessels must submit any SMP proposals to NMFS by June 28, 2021 in order for NMFS to consider approving the SMP for use in 2021.

Classification

Administrative Procedure Act

Pursuant to 5 U.S.C. 553(b)(B), there is good cause to waive prior notice and opportunity for public comment for this action because notice and comment would be unnecessary and contrary to the public interest. This action simply provides notice of OMB's approval of the reporting requirements at issue, which has already occurred, and renders those requirements effective. Thus, this action does not involve any further exercise of agency discretion by NMFS or OMB. Moreover, the public has had prior notice and the opportunity to comment on the collection-of-information requirements. NMFS published a proposed rule including the collection-of-information requirements (85 FR 66519; October 20, 2020), with comments accepted until November 19, 2020. An additional opportunity for public comment at this point would not be meaningful and would be duplicative. It would also be contrary to the public interest because delaying the notice of the effectiveness of the collection-of-information requirements could delay the public having notice that they can submit SMP applications.

For the reasons above, there is also good cause under 5 U.S.C. 553(d)(3) to waive the 30-day delay in effective date and make this rule effective immediately upon publication.

Executive Order 12866

This final rule has been determined to be not significant for purposes of Executive Order 12866.

Paperwork Reduction Act

This final rule contains collection-of-information requirements subject to the PRA and which OMB approved under OMB Control Number 0648-0794 on March 10, 2021. The public reporting burden for the submission of SMPs and post-season reports includes the time for reviewing instructions, searching existing data sources, gathering and maintaining the data needed, and completing and reviewing the collection of information. NMFS estimates receiving up to six SMP proposals, six SMP post-season reports, and one amended SMP, per year over the next three years. NMFS estimates receiving one administrative appeal for a disapproved SMP over the next three years. Public reporting burden is estimated to average 10 hours per response for the SMP proposal, 3 hours per response for an amended SMP, 6 hours per response for an administrative appeal of a disapproved SMP, and 8 hours per response for the SMP post-season report.

Send comments on the burden estimates or any other aspect of this data collection, including suggestions for reducing the burden, to NMFS West Coast Region (see ADRESSES), and at www.reginfo.gov/public/do/PRAMain. Find this particular information collection by using the search function and entering either the title of the collection or the OMB Control Number 0648-0794.

Notwithstanding any other provision of the law, no person is required to respond to, nor shall any person be subject to a penalty for failure to comply with, a collection of information subject to the requirements of the PRA, unless that collection of information displays a currently valid OMB Control Number.

List of Subjects

15 CFR Part 902

Reporting and recordkeeping requirements.

50 CFR Part 660

Fisheries, Fishing, Indians, Recreation and recreation areas, Reporting and recordkeeping requirements, Treaties.

Dated: April 23, 2021.
Samuel D. Rauch III,
Deputy Assistant Administrator for Regulatory Programs, National Marine Fisheries Service.

For the reasons set out in the preamble, NMFS amends 15 CFR part 902 as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, in the table in paragraph (b), under the entry “50 CFR”, revise the entry for “660.113” to read as follows:

§ 902.1 OMB control numbers assigned pursuant to the Paperwork Reduction Act.

* * * * *

(b) * * *

CFR part or section where the information collection requirement is located | Current OMB control number (all numbers begin with 0648-)
* * * * *
50 CFR:
* * * * *
660.113 | -0271, -0573, -0618, -0619, -0737 and -0794
* * * * *

* * * * *

[FR Doc. 2021-08926 Filed 4-28-21; 8:45 am]

BILLING CODE 3510-22-P